DEPARTMENT OF COMMERCE

International Trade Administration

[A-570-979]

Crystalline Silicon Photovoltaic Cells, Whether or Not Assembled Into Modules, From the People's Republic of China: Final Results of Antidumping Duty Administrative Review and Final Determination of No Shipments; 2019-2020

AGENCY: Enforcement and Compliance, International Trade Administration, Department of Commerce.

SUMMARY: The U.S. Department of Commerce (Commerce) has determined that the manufacturers/exporters of crystalline silicon photovoltaic cells, whether or not assembled into modules (solar cells), from the People's Republic of China (China) listed in the “Final Results of Review” section below, sold subject merchandise in the United States at less than normal value during the period of review (POR) December 1, 2019, through November 30, 2020.

DATES: Applicable June 28, 2022.

FOR FURTHER INFORMATION CONTACT: Jeff Pedersen, AD/CVD Operations, Office IV, Enforcement and Compliance, International Trade Administration, U.S. Department of Commerce, 1401 Constitution Avenue NW, Washington, DC 20230; telephone: (202) 482-2769.

SUPPLEMENTARY INFORMATION:

Background

On December 23, 2021, Commerce published the Preliminary Results of this review in the Federal Register.¹ After publication of the Preliminary Results, a number of interested parties filed case and rebuttal briefs and Commerce held a public hearing (see the Issues and Decision Memorandum for details).² On April 19, 2022, Commerce extended the deadline for the final results of this review until June 21, 2022.³ The final weighted-average dumping margins determined in this review are in the “Final Results of Review” section of this notice.

¹ See Crystalline Silicon Photovoltaic Cells, Whether or Not Assembled Into Modules, from the People's Republic of China: Preliminary Results of Antidumping Duty Administrative Review, Partial Rescission of Antidumping Administrative Review, and Preliminary Determination of No Shipments; 2019-2020, 86 FR 72923 (December 23, 2021) (Preliminary Results), and accompanying Preliminary Decision Memorandum (PDM).

² See Memorandum, “Issues and Decision Memorandum for the Final Results of the 2019-2020 Antidumping Duty Administrative Review of Crystalline Silicon Photovoltaic Cells, Whether or Not Assembled into Modules, from the People's Republic of China,” dated concurrently with, and hereby adopted by, this notice (Issues and Decision Memorandum).

³ See Memorandum, “Crystalline Silicon Photovoltaic Cells, Whether or Not Assembled Into Modules, from the People's Republic of China: Extension of Deadline for Final Results of Antidumping Duty Administrative Review; 2019-2020,” dated April 19, 2022.

Scope of the Order ⁴

⁴ See Crystalline Silicon Photovoltaic Cells, Whether or Not Assembled Into Modules, from the People's Republic of China: Amended Final Determination of Sales at Less Than Fair Value, and Antidumping Duty Order, 77 FR 73018 (December 7, 2012) (Order); see also Crystalline Silicon Photovoltaic Cells, Whether or Not Assembled Into Modules, from the People's Republic of China: Final Results of Changed Circumstances Reviews, and Revocation of Antidumping and Countervailing Duty Orders, in Part, 86 FR 71616-71617 (December 17, 2021) (excluding certain off-grid CSPV). This scope also reflects the USHTS subheadings 8541.42.0010, and 8541.43.0010. which were updated in 2022. The HTSUS subheadings in effect during the POR were 8501.61.0010, 8507.20.80, 8541.40.6015, 8541.40.6025, and 8501.31.8010.

The merchandise covered by this Order is crystalline silicon photovoltaic cells, and modules, laminates, and panels, consisting of crystalline silicon photovoltaic cells, whether or not partially or fully assembled into other products, including, but not limited to, modules, laminates, panels and building integrated materials. Merchandise covered by this Order is currently classified in the Harmonized Tariff Schedule of the United States (HTSUS) under subheadings 8501.71.0000, 8501.72.1000, 8501.72.2000, 8501.72.3000, 8501.72.9000, 8501.80.1000, 8501.80.2000, 8501.80.3000, 8501.80.9000, 8507.20.8010, 8507.20.8031, 8507.20.8041, 8507.20.8061, 8507.20.8091, 8541.42.0010, and 8541.43.0010. Although these HTSUS subheadings are provided for convenience and customs purposes, the written description of the scope of this order is dispositive. For a complete description of the scope of the Order, see the Issues and Decision Memorandum.

Analysis of Comments Received

We addressed all of the issues that were raised in interested parties' case and rebuttal briefs in the Issues and Decision Memorandum. A list of the sections in the Issues and Decision Memorandum, including a list of issues that parties raised, and to which we responded, is in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Final Determination of No Shipments

In the Preliminary Results we found that, during the POR, there were no shipments of subject merchandise into the United States by Canadian Solar,⁵ JingAo Solar Co., Ltd., and Yingli.⁶ No parties commented on these preliminary determinations. Accordingly, because we have not received any information to contradict our preliminary no-shipments determination, nor any comment in opposition to our preliminary finding, our determinations remain unchanged for the final results of review.⁷ We will issue instructions to U.S. Customs Border and Protection (CBP) based on these final results.

⁵ Canadian Solar comprises Canadian Solar International Limited; Canadian Solar Manufacturing (Changshu) Inc.; Canadian Solar Manufacturing (Luoyang) Inc.; CSI Cells Co., Ltd.; CSI Solar Power (China) Inc.; and CSI-GCL Solar Manufacturing (Yancheng) Co., Ltd.

⁶ Yingli comprises Shenzhen Yingli New Energy Resources Co., Ltd.; Baoding Jiasheng Photovoltaic Technology Co., Ltd.; Baoding Tianwei Yingli New Energy Resources Co., Ltd.; Beijing Tianneng Yingli New Energy Resources Co., Ltd.; Hainan Yingli New Energy Resources Co., Ltd.; Hengshui Yingli New Energy Resources Co., Ltd.; Lixian Yingli New Energy Resources Co., Ltd.; Tianjin Yingli New Energy Resources Co., Ltd.; and Yingli Energy (China) Company Limited.

⁷ See Preliminary Results PDM at 5.

Changes Since the Preliminary Results

As discussed in detail in the Issues and Decision Memorandum, since issuing the Preliminary Results, we corrected certain ministerial errors in our calculation of Jinko's ⁸ and Risen's ⁹ (the mandatory respondents) weighted-average dumping margins, changed certain surrogate values, granted BYD (Shangluo) Industrial Co., Ltd. (BYD Shangluo) a separate rate, and updated the weighted-average dumping margin assigned to the companies who are eligible for a separate rate.

⁸ We have continued to treat the following companies as a single entity: Jinko Solar Import and Export Co., Ltd.; Jinko Solar Co., Ltd.; JinkoSolar Technology (Haining) Co., Ltd.; Yuhuan Jinko Solar Co., Ltd.; Zhejiang Jinko Solar Co., Ltd.; Jiangsu Jinko Tiansheng Solar Co., Ltd.; JinkoSolar (Chuzhou) Co., Ltd.; JinkoSolar (Yiwu) Co., Ltd.; and JinkoSolar (Shangrao) Co., Ltd. (collectively, Jinko).

⁹ We have continued to treat the following companies as a single entity: Risen Energy Co. Ltd.; Risen (Wuhai) New Energy Co., Ltd.; Zhejiang Twinsel Electronic Technology Co., Ltd.; Risen (Luoyang) New Energy Co., Ltd.; Jiujiang Shengzhao Xinye Technology Co., Ltd.; Jiujiang Shengzhao Xinye Trade Co., Ltd.; Ruichang Branch (Ruichang Branch); Risen Energy (HongKong) Co., Ltd. (Risen Hong Kong); Risen Energy (Changzhou) Co., Ltd.; and Risen Energy (YIWU) Co., Ltd. (collectively, Risen).

Separate Rates

As noted above, we have granted BYD Shangluo, which we denied a separate rate in the Preliminary Results, a separate rate. We made no other changes to our preliminary separate rate findings. Therefore, we granted Jinko, Risen, and the eleven other companies/company groups listed in the “Final Results of Review” section below separate rate status. However, we have continued to deny separate rate status to all of the companies listed in Appendix II of the Preliminary Results notice except BYD Shangluo.

Dumping Margin for Non-Individually Examined Respondents Granted Separate Rate Status

The statute and Commerce's regulations do not address the rate to apply to respondents not selected for individual examination in a non-market economy (NME) administrative review who are eligible for a separate rate. When considering which rate to apply to such respondents, Commerce generally looks to section 735(c)(5) of the Tariff Act of 1930, as amended (the Act), which provides instructions for calculating the all-others rate in an antidumping duty investigation. Section 735(c)(5)(A) of the Act instructs Commerce to base the all-others rate on the estimated weighted-average dumping margins established for the exporters and producers individually investigated, excluding any dumping margins that are zero, de minimis, or based entirely on facts available.

Because we calculated final dumping margins for the mandatory respondents Jinko and Risen which are not zero, de minimis, or based entirely on facts available, consistent with Commerce's practice and section 735(c)(5)(A) of the Act, we assigned the separate rate recipients a dumping margin equal to the weight average of Jinko's and Risen's final dumping margins. We weight averaged Jinko's and Risen's final dumping margins using the public values of their reported sales of subject merchandise to the United States during the POR.¹⁰

¹⁰ See Memorandum, “2019-2020 Administrative Review of the Antidumping Duty Order on Crystalline Silicon Photovoltaic Cells, Whether or not Assembled into Modules, from the People's Republic of China: Calculation of the Dumping Margin for Respondents Not Selected for Individual Examination,” dated concurrently with this notice.

Final Results of Review

We are assigning the following dumping margins to the firms listed below for the period December 1, 2019, through November 30, 2020:

Producers/exporters | Weighted-average dumping margin (percent)
Jinko Solar Import and Export Co., Ltd./Jinko Solar Co., Ltd./JinkoSolar Technology (Haining) Co., Ltd./Yuhuan Jinko Solar Co., Ltd./Zhejiang Jinko Solar Co., Ltd./Jiangsu Jinko Tiansheng Solar Co., Ltd./JinkoSolar (Chuzhou) Co., Ltd./JinkoSolar (Yiwu) Co., Ltd./JinkoSolar (Shangrao) Co., Ltd | 15.71
Risen Energy Co. Ltd./Risen (Wuhai) New Energy Co., Ltd./Zhejiang Twinsel Electronic Technology Co., Ltd./Risen (Luoyang) New Energy Co., Ltd./Jiujiang Shengzhao Xinye Technology Co., Ltd./Jiujiang Shengzhao Xinye Trade Co., Ltd./Ruichang Branch/Risen Energy (HongKong) Co., Ltd./Risen Energy (Changzhou) Co., Ltd./Risen Energy (YIWU) Co., Ltd | 8.00
Review-Specific Average Rate Applicable to the Following Companies
Anji DaSol Solar Energy Science & Technology Co., Ltd | 10.24
BYD (Shangluo) Industrial Co., Ltd | 10.24
Chint Solar (Zhejiang) Co., Ltd., Chint New Energy Technology (Haining) Co., Ltd., Chint Solar (Jiuquan) Co., Ltd., Chint Solar (Hong Kong) Company Limited | 10.24
JA Solar Technology Yangzhou Co., Ltd | 10.24
LONGi Solar Technology Co., Ltd | 10.24
Shanghai JA Solar Technology Co., Ltd | 10.24
Shenzhen Topray Solar Co., Ltd | 10.24
Wuxi Suntech Power Co., Ltd | 10.24
Wuxi Tianran Photovoltaic Co., Ltd | 10.24
Xiamen Yiyusheng Solar Co., Ltd | 10.24
Zhejiang Aiko Solar Energy Technology Co., Ltd | 10.24

Commerce's policy regarding the conditional review of the China-wide entity applies to this administrative review.¹¹ Under this policy, Commerce will not review the China-wide entity in an administrative review unless a party specifically requests, or Commerce self-initiates, a review of the entity. Because no party requested a review of the China-wide entity, and Commerce did not self-initiate a review of the entity, the China-wide entity is not under review, and the dumping margin assigned to the China-wide entity (i.e., 238.95 percent) has not changed.¹²

¹¹ See Antidumping Proceedings: Announcement of Change in Department Practice for Respondent Selection in Antidumping Duty Proceedings and Conditional Review of the Nonmarket Economy Entity in NME Antidumping Duty Proceedings, 78 FR 65963, 65969-70 (November 4, 2013).

¹² See Crystalline Silicon Photovoltaic Cells, Whether or Not Assembled Into Modules, from the People's Republic of China: Final Results of Antidumping Duty Administrative Review and Final Determination of No Shipments; 2018-2019, 86 FR 58871 (October 25, 2021).

Disclosure

Pursuant to 19 CFR 351.224(b), within five days of the publication of this notice in the Federal Register, we will disclose to the parties to this proceeding, the calculations that we performed for these final results of review.

Assessment

Pursuant to section 751(a)(2)(C) of the Act and 19 CFR 351.212(b), Commerce will determine, and U.S. Customs Border and Protection (CBP) shall assess, antidumping duties on all appropriate entries of subject merchandise covered by the final results of this review. Commerce intends to issue assessment instructions to CBP no earlier than 35 days after the date of publication date of the final results of this review in the Federal Register. We intend to instruct CBP to liquidate entries containing subject merchandise exported by the companies under review that we determine in the final results to be part of the China-wide entity at the China-wide entity rate of 238.95 percent.

If a timely summons is filed at the U.S. Court of International Trade, the assessment instructions will direct CBP not to liquidate relevant entries until the time for parties to file a request for a statutory injunction has expired (i.e., within 90 days of publication).

Where merchandise was entered into the United States under the case number of a mandatory respondent in this review during the POR (i.e., entered under the mandatory respondent's cash deposit rate), but the mandatory respondent did not report a corresponding sale or entry in its U.S. sales database, we will instruct CBP to liquidate such entries at the China-wide rate. In addition, for the companies for which we determined that there were no entries, exports, or sales of subject merchandise during the POR, any suspended entries of subject merchandise entered under one of the companies' case numbers during the POR will be liquidated at the China-wide rate.¹³

¹³ See Non-Market Economy Antidumping Proceedings: Assessment of Antidumping Duties, 76 FR 65694 (October 24, 2011), for a full discussion of this practice.

Cash Deposit Requirements

The following cash deposit requirements will be effective upon publication of the final results of this administrative review in the Federal Register. Pursuant to section 751(a)(2)(C) of the Act, for shipments of subject merchandise from the People's Republic of China entered, or withdrawn from warehouse, for consumption on or after the date of publication of this notice in the Federal Register, the following cash deposits will be required: (1) for the companies/company groups listed in the table in the “Final Results of Review” section above, the cash deposit rate will be the rate listed for each company/company group in the table; (2) for previously investigated Chinese and non-Chinese exporters that received a separate rate in a prior segment of this proceeding, the cash deposit rate will continue to be the existing exporter-specific rate; (3) for all Chinese exporters of subject merchandise that have not been found to be entitled to a separate rate, the cash deposit rate will be the rate previously established for the China-wide entity (i.e., 238.95 percent); and (4) for all non-China exporters of subject merchandise which have not received their own rate, the cash deposit rate will be the rate applicable to the Chinese exporter that supplied the non-Chinese exporter. These deposit requirements, when imposed, shall remain in effect until further notice.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Administrative Protective Order

This notice also serves as a reminder to parties subject to an administrative protective order (APO) of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

Notification to Interested Parties

This determination is issued and published in accordance with sections 751(a)(1) and 777(i)(1) of the Act, and 19 CFR 351.221(b)(5).

Dated: June 21, 2022.
Lisa W. Wang,
Assistant Secretary for Enforcement and Compliance.

Appendix

Issues and Decision Memorandum Topics List

I. Summary

II. Background

III. Scope of the Order

IV. Changes Since the Preliminary Results

V. Discussion of the Issues

Comment 1: Whether to Base Risen's Dumping Margin on Partial Adverse Facts Available (AFA)

Comment 2: The Appropriate Partial AFA Rate

Comment 3: The Appropriate Surrogate Value (SV) for Solar Glass

Comment 4: The Appropriate SV for Ocean Freight

Comment 5: Whether to Adjust Wafer SVs

Comment 6: The Appropriate SV for Silver Paste

Comment 7: The Appropriate SV for Aluminum Frames, Profiles, and Keys

Comment 8: Selection of Financial SVs

Comment 9: The Appropriate SV for Air Freight

Comment 10: The Appropriate SV for Backsheets

Comment 11: The Appropriate SV for Ethylene-Vinyl Acetate (EVA)

Comment 12: The Appropriate SV for M_Weldingwire

Comment 13: The Appropriate SV for BS_PO_Film_1 and BS_PA_Transparent_Film

Comment 14: The Appropriate SV for M_Plastic_Film_Cover

Comment 15: The Appropriate SV for Polypropylene Film

Comment 16: The Appropriate SV for P_M_Tape

Comment 17: The Appropriate SV for P_C_Spongecover

Comment 18: The Appropriate SV for P_C_Pabox, P_C_Innerliner_Case, and P_PB_PE_Foam_Box

Comment 19: The Appropriate SV for P_M_Wooden_Board and P_M_Lift_Stand

Comment 20: The Appropriate SV for Sodium Hydroxide

Comment 21: The Appropriate SV for Steam

Comment 22: The Appropriate SV for Electricity

Comment 23: Whether Commerce Improperly Deducted Section 201 Duties from U.S. Prices

Comment 24: Whether Commerce Incorrectly Calculated Jinko's Further Manufacturing Costs

Comment 25: Whether Commerce Incorrectly Converted the SV for Jinko's Diode

Comment 26: Whether Commerce Incorrectly Calculated Freight Insurance Costs

Comment 27: Whether Commerce Incorrectly Applied the AFA Adjustment to Factors of Production (FOP)

Comment 28: Whether Commerce Incorrectly Calculated U.S. Inland Freight Costs

Comment 29: Whether Commerce Should Accept Trina's Untimely Submission and Grant it a Separate Rate

Comment 30: Whether Commerce Should Grant Shangluo BYD a Separate Rate

Comment 31: Whether Commerce Should Deduct Section 301 Duties from U.S. Sales Prices

Comment 32: Whether Commerce's Application of the Cohen's d Test Is Unsupported by Substantial Evidence and Controlling Law

VI. Recommendation

[FR Doc. 2022-13773 Filed 6-27-22; 8:45 am]

BILLING CODE 3510-DS-P